DEPARTMENT OF STATE

[Public Notice 4052]

Office To Monitor and Combat Trafficking in Persons (G/TIP)

Summary: G/TIP is seeking proposals from qualified U.S. Organizations and Institutions including Registered Private Voluntary Organizations (PVOs) with the requisite capability and experience to convene a world summit hosted by the State Department to focus world attention and resolve on the plight of persons, especially women and children, caught in commercial sexual exploitation, including developing a conference support management plan, providing logistics support, and disseminating plenary materials. DOS intends to award a cooperative agreement not to exceed $1.8 million.

Application packages are due July 22, 2002 at 4 p.m. EST.

Interested applicants may obtain detailed application instructions from the following website: www.statebuy.gov; click on grant opportunities. For questions, please contact Linda Gower, Grants Officer, at (202) 776-8774 or gowerlg@state.gov.

Dated: June 21, 2002.
Nancy Ely-Raphel,
Director, G/TIP, Department of State.

[FR Doc. 02-15891 Filed 6-21-02; 8:45 am]

BILLING CODE 4710-17-U